ENVIRONMENTAL PROTECTION AGENCY

[FRL-7205-3]

Notice of Proposed Administrative Settlement Pursuant to the Comprehensive Environmental Response, Compensation, and Liability Act

AGENCY: Environmental Protection Agency (EPA).

ACTION: Republish Notice; Major Parties requested additional time to comment.

SUMMARY: In accordance with section 122(i) of the Comprehensive Environmental Response, Compensation, and Liability Act, as amended (“CERCLA”), 42 U.S.C. 9622(i), notice is hereby given of a proposed administrative settlement concerning the Louisiana Oil Recycle & Reuse Site, Baton Rouge, Louisiana, with the parties referenced in the Supplementary Information portion of this notice.

The settlement requires the settling deminimis parties to pay a total of $73,176.87 as payment of past response costs to the Hazardous Substances Superfund. The settlement includes a covenant not to sue pursuant to sections 106 and 107 of CERCLA, 42 U.S.C. 9606 and 9607.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at 1445 Ross Avenue, Dallas, Texas, 75202-2733.

DATES: Comments must be submitted on or before June 3, 2002.

ADDRESSES: The proposed settlement and additional background information relating to the settlement are available for public inspection at 1445 Ross Avenue, Dallas, Texas, 75202-2733. A copy of the proposed settlement may be obtained from Janice Bivens, 1445 Ross Avenue, Dallas, Texas, 75202-2733 at (214) 665-6717. Comments should reference the Louisiana Oil Recycle & Reuse Site, Baton Rouge, Louisiana, and EPA Docket Number 6-04-02, and should be addressed to Janice Bivens at the address listed above.

FOR FURTHER INFORMATION CONTACT: Amy McGee, 1445 Ross Avenue, Dallas, Texas, 75202-2733 at (214) 665.8063.

SUPPLEMENTARY INFORMATION:

Acadian Ambulance

American Manufacturing (American Cordage)

Ascension Parish (LA) Police Jury

Atlas Processing (Pennzoil Quaker State)

Atlas Wireline Service (Baker-Hughes)

Aviation Labs

B&B Auto

B.F. Goodrich Chemical

Bercen, Inc.

Bob Wall's Automotive

BP Oil Company, and Sohio

Brandt Company

C & L Supply

Cabot Corporation (Haynes International)

Caleb Brett Industries

Carboline, Inc.

Catalyst Recovery

CCL Custom Manuf. (Peterson Puritan, Inc.)

CENLA Ambulance (Rapides Regional Med. Ctr.)

Cherry Picker Parts & Service

Coastal Fluid (Coastal Chemical Co., L.L.C.)

Conoco, Inc.

Daniel Oil Tool (Emerson Process Mgmt.)

Don's Auto Shop

Dravo Lime

Dresser Industries/Dresser Pump

DSI Transport

Durametallic (FlowServe Corp.)

Enron Trading (EOTT)

Ferriday Farm Equipment

Francis Drilling Fluid

Futrell Chevrolet

General Electric

George Lato

G.N. Gonzales

Greenwell Springs Hospital (E. LA Mental Health System)

Groendyke Transport, Inc.

Halliburton Logging

Hammond (LA) State School

Highland Hardware

Howell Industries

I.E.W. Systems, Inc. (Universal Compression Inc.)

Iberville (LA) Police Jury

Ingersoll-Rand

Inspectorate American/Charles Martin

Intercontinental Terminals

International Paint (AKZO-Nobel)

Ken Coleman Equipment

Koch Pipeline Company, L.P.

KRC Southern (Voith Paper)

L & B Transportation Co., Inc.

Lincoln Big Three Inc.

Liquid Air Engineering Corp. (Air Liquide)

Liquid Carbonic (Praxair)

Lewis Grocer

Louisiana Community & Technical College

Louisiana Industries (TXI)

Luv-n-Care

M & L Industries

MacKenzie Chemical (Murdoch Corp.)

Melamine Chemical

N L McCullough Industries, Inc. (Baker-Atlas)

U.S. Navy

Occidental Chemical Corporation

Oddis Machine (Otis-Halliburton)

OHM Corporation

Our Lady of the Lake Hospital (Baton Rouge, LA)

P & H Tube

Pierce Properties

Purina Mills, Inc.

Quality Diesel

Raymond Pylant

Richard Oil Company

Rubicon, Inc.

Schuylkill Metals (Exide Technology)

SEPCO Industries (DPX Enterprises, Inc.)

Sewell Plastics (Crown Cork & Seal)

Shell Western E & P

Simmons Tractor

Solar Turbines

Southern Flo, Inc.

Southern Natural Gas (El Paso Corp.)

Southern Scrap Materials, Ltd.

Speciality Oil (Pennzoil-Quaker State)

Stupp Corporation

T.M.I.

Union Texas Petroleum (Williams Companies)

United States Postal Service (USPS)

University of Southeast Louisiana

University of Southwest Louisiana (Lafayette)

Valley Electric Corporation

Verret Shipyard

West Jefferson Levee District (LA)

Westinghouse (Siemens)

Woodward-Clyde Consultants

WY Tractor Company

Dated: April 22, 2002.
Gregg A. Cooke,
Regional Administrator, Region 6.

[FR Doc. 02-10878 Filed 5-1-02; 8:45 am]

BILLING CODE 6560-50-P